DEPARTMENT OF COMMERCE

International Trade Administration

[C-570-984]

Drawn Stainless Steel Sinks From the People's Republic of China: Correction to Notice of Initiation of Countervailing Duty Investigation

AGENCY: Import Administration, International Trade Administration, Department of Commerce.

DATES: Effective Date: April 16, 2012.

FOR FURTHER INFORMATION CONTACT: Shane Subler and Hermes Pinilla, AD/CVD Operations, Import Administration, International Trade Administration, U.S. Department of Commerce, 14th Street and Constitution Avenue NW., Washington, DC 20230; telephone: (202) 482-0189 and (202) 482-3477, respectively.

SUMMARY: On March 27, 2012, the Department of Commerce (“Department”) published the notice Drawn Stainless Steel Sinks from the People's Republic of China: Initiation of Countervailing Duty Investigation, 77 FR 18211 (March 27, 2012) (“Initiation Notice”). In the “Scope of Investigation” section of the Initiation Notice, the Department omitted a word and used an incomplete Harmonized Tariff Schedule of the United States (“HTSUS”) number.

SUPPLEMENTARY INFORMATION: On March 1, 2012, the Department of Commerce (“Department”) received a countervailing duty (“CVD”) petition concerning imports of drawn stainless steel sinks from the People's Republic of China (“PRC”) filed in proper form by Elkay Manufacturing Company. See Petition for the Imposition of Antidumping and Countervailing Duties Against Drawn Stainless Steel Sinks from the People's Republic of China, dated March 1, 2012. On March 27, 2012, the Department published the Initiation Notice for the investigation.

The first paragraph of the “Scope of Investigation” section of the Initiation Notice stated the following: “Stainless steel sinks with multiple bowls that are joined through a welding operation to form one unit are covered by the scope of the investigation.” See Initiation Notice, 77 FR at 18212. The Department inadvertently omitted the word “drawn” from this sentence, as follows: “Stainless steel sinks with multiple drawn bowls that are joined through a welding operation to form one unit are covered by the scope of the investigation.”

Furthermore, the last sentence of the “Scope of Investigation” section stated the following: “The products covered by the investigation are currently classified in the Harmonized Tariff Schedule of the United States (“HTSUS”) under statistical reporting number 7324.10.000.” The Department inadvertently omitted a zero from the end of this HTSUS number. The correct HTSUS number is 7324.10.0000.

Correction

The “Scope of Investigation” section below incorporates these two corrections and represents the correct scope of the investigation.¹

¹ The Department's initiation checklist for the investigation contained the correct scope. See Countervailing Duty Investigation Initiation Checklist, Drawn Stainless Steel Sinks from the People's Republic of China (March 21, 2012), at Attachment I.

Scope of Investigation

The products covered by the scope of this investigation are stainless steel sinks with single or multiple drawn bowls, with or without drain boards, whether finished or unfinished, regardless of type of finish, gauge, or grade of stainless steel (“Drawn Stainless Steel Sinks”). Mounting clips, fasteners, seals, and sound-deadening pads are also covered by the scope of this investigation if they are included within the sales price of the Drawn Stainless Steel Sinks.² For purposes of this scope definition, the term “drawn” refers to a manufacturing process using metal forming technology to produce a smooth basin with seamless, smooth, and rounded corners. Drawn Stainless Steel Sinks are available in various shapes and configurations and may be described in a number of ways including flush mount, top mount, or undermount (to indicate the attachment relative to the countertop). Stainless steel sinks with multiple drawn bowls that are joined through a welding operation to form one unit are covered by the scope of the investigation. Drawn Stainless Steel Sinks are covered by the scope of the investigation whether or not they are sold in conjunction with non-subject accessories such as faucets (whether attached or unattached), strainers, strainer sets, rinsing baskets, bottom grids, or other accessories.

² Mounting clips, fasteners, seals, and sound-deadening pads are not covered by the scope of this investigation if they are not included within the sales price of the Drawn Stainless Steel Sinks, regardless of whether they are shipped with or entered with Drawn Stainless Steel Sinks.

Excluded from the scope of the investigation are stainless steel sinks with fabricated bowls. Fabricated bowls do not have seamless corners, but rather are made by notching and bending the stainless steel, and then welding and finishing the vertical corners to form the bowls. Stainless steel sinks with fabricated bowls may sometimes be referred to as “zero radius” or “near zero radius” sinks.

The products covered by this investigation are currently classified in the Harmonized Tariff Schedule of the United States (“HTSUS”) under statistical reporting number 7324.10.0000. Although the HTSUS subheading is provided for convenience and customs purposes, the written description of the products under investigation is dispositive of its inclusion as subject merchandise.

This notice is issued and published pursuant to section 777(i) of the Tariff Act of 1930, as amended.

Dated: April 6, 2012.
Paul Piquado,
Assistant Secretary for Import Administration.

[FR Doc. 2012-9049 Filed 4-13-12; 8:45 am]

BILLING CODE 3510-DS-P